DEPARTMENT OF THE INTERIOR

Fish and Wildlife Service

50 CFR Part 23

RIN 1018-AH63

Changes in List of Species in Appendices to the Convention on International Trade in Endangered Species of Wild Fauna and Flora

AGENCY: Fish and Wildlife Service, Interior.

ACTION: Final rule.

SUMMARY: The Convention on International Trade in Endangered Species of Wild Fauna and Flora (CITES, or “the Convention”) regulates international trade in certain animals and plants. Species for which such trade is controlled are listed in Appendices I, II, and III to the Convention. This final rule announces decisions made by the eleventh meeting of the Conference of the Parties to CITES (COP11) in April 2000 on amendments to Appendices I and II, and incorporates those decisions in 50 CFR 23.23. This rule also discusses the issue of entering of reservations by the United States on any of the amendments. The effect of a reservation would be to exempt the United States from implementing CITES for a particular species. The United States has entered no reservations. The CITES amendments to Appendices I and II described in this rule entered into effect on July 19, 2000, unless specifically indicated otherwise.

DATES: This final rule is effective May 18, 2001. The amendments to Appendices I and II adopted at the recent meeting of the Conference of the Parties held in Gigiri, Kenya, on April 10-20, 2000, entered into force 90 days after their adoption under the terms of CITES and, therefore, were enforceable as of July 19, 2000.

ADDRESSES: Please send correspondence concerning this rule to Chief, Division of Scientific Authority, U.S. Fish and Wildlife Service, Mail Stop ARLSQ-750, Washington, DC 20240; (fax number: 703-358-2276;).

FOR FURTHER INFORMATION CONTACT: Dr. Susan Lieberman, Chief, Division of Scientific Authority, U.S. Fish and Wildlife Service, Mail Stop ARLSQ-750, Washington, DC 20240 (phone: 703-358-1708; fax: 703-358-2276; e-mail: r9osa@fws.gov).

SUPPLEMENTARY INFORMATION:

Background

CITES regulates import, export, reexport, and introduction from the sea of certain animal and plant species. Species for which trade is controlled are included in one of three Appendices. Appendix I includes species threatened with extinction that are or may be affected by trade. Appendix II includes species that, although not necessarily threatened with extinction now, may become so unless trade in them is strictly controlled. Appendix II also lists species that must be subject to regulation in order that trade in other listed species may be brought under effective control (e.g., because of similarity-of-appearance problems). Appendix III includes species that any Party to CITES (i.e., a country that has ratified the treaty) identifies as being subject to regulation within its jurisdiction for purposes of preventing or restricting exploitation, and for which the Party needs the cooperation of other Parties to regulate trade. Any Party may propose amendments to Appendices I and II for consideration at biennial meetings of the Conference of the Parties. The text of any proposal must be communicated to the CITES Secretariat at least 150 days before the meeting. The Secretariat must then consult the other Parties and appropriate intergovernmental agencies, and communicate their responses to all Parties no later than 30 days before the meeting.

Recent Decisions

The eleventh meeting of the Conference of the Parties to CITES (COP11) was held April 10-20, 2000, in Gigiri, Kenya, at the headquarters of the United Nations Environment Programme (UNEP). The meeting was hosted by UNEP. At the meeting, the Parties considered 21 different plant proposals and 41 different animal proposals to amend the Appendices (see Table 1 below). We described those proposals in the Federal Register on February 17, 2000, for proposals submitted by the United States (65 FR 8190), and on March 8, 2000, for proposals submitted by other countries (65 FR 12400). In the Federal Register of March 8, 2000, we also discussed the proposed U.S. negotiating positions on those proposals submitted by other countries.

The CITES COP meeting was divided into two simultaneous committees. Committee II discussed management, implementation, and enforcement issues. Committee I considered and acted upon all proposals to amend the Appendices (except, of course, those that were withdrawn by the proponents during the meeting). Each duly accredited attending Party had one vote, and countries and approved observer organizations were afforded the opportunity to comment on the proposals. Adoption of amendments by Committee I required either consensus or, in case of a vote, a two-thirds majority of those Parties present and voting (abstentions were not included). The Plenary Session accepted actions by Committee I on species proposals, unless a motion to reopen debate was put to vote and approved by one-third of the non-abstaining Parties voting.

Debate was reopened and votes recast on the following proposals that had not received the required two-thirds majority in Committee I: the proposal submitted by Norway to transfer the Northeast Atlantic and North Atlantic Central stocks of minke whales (Balaenoptera acutorostrata) from Appendix I to Appendix II; the proposal submitted by Cuba to transfer the “Cuban” population of the hawksbill sea turtle (Eretmochelys imbricata) from Appendix I to Appendix II; and the proposal submitted by the United Kingdom to include the basking shark (Cetorhinus maximus) in Appendix II. All these proposals were amended in Plenary, and were rejected by the Parties in Plenary.

Secret ballots were cast in Committee I or Plenary on seven different proposals. The proposals that were decided by secret ballot were for the following species: all whale proposals, hawksbill sea turtle, great white shark, and basking shark. All proposals brought to a vote in Plenary were also conducted by secret ballot. The United States considers this proliferation of secret ballots to be unfortunate for a number of reasons. We believe that the position of CITES Parties on species proposals should be public and the voting process transparent. Governments must be accountable to their citizens. In addition, secret ballots take significant time away from the deliberations in both Committee and Plenary. Consequently, the U.S. delegation to the COP always made public (on the floor or in other public fora) its vote on species proposals conducted by secret ballot at COP11. In Committee I, the United States voted for the proposals on basking shark and great white shark, and against all proposals for downlisting of whales and sea turtles.

Species proposals submitted or cosponsored by the United States met with mixed results. The proposals on white wicky (Kalmia cuneata), Asian box turtles (Cuora spp.; cosponsored by Germany), Sonoran green toad (Bufo retiformis), and Mantella frogs (Mantella spp.; cosponsored by The Netherlands) were adopted. The proposals on gyrfalcon (Falco rusticolus), spotted turtle (Clemmys guttata), whale shark (Rhincodon typus), great white shark (Carcharodon carcharias; cosponsored by Australia), and Eastern Hemisphere tarantulas (Poecilotheria spp.; cosponsored by Sri Lanka) were rejected. It is notable that the proposals for whale shark, great white shark, and tarantulas received a simple majority of votes, although they did not receive the two-thirds majority required for adoption. The proposal on Asian pangolins (Manis crassicaudata, M. pentadactyla, and M. javanica; cosponsored by India, Nepal, and Sri Lanka) was amended (species maintained in Appendix II, with a zero quota for wild specimens) and subsequently adopted. The proposal on musk deer (Moschus spp.), cosponsored by India and Nepal, was withdrawn, but a resolution and decision were adopted instead.

The proposal on Black Sea bottlenose dolphin (Tursiops truncatus ponticus; cosponsored by Georgia), pancake tortoise (Malacochersus tornieri; cosponsored by Kenya), and timber rattlesnake (Crotalus horridus) were withdrawn, for varying reasons. A number of range countries supported the bottlenose dolphin proposal, but Georgia was unable to attend the meeting; the proposal did generate an official COP decision directing action by the CITES Animals Committee. The timber rattlesnake proposal was withdrawn by the United States after significant opposition from European countries led to defeat of the spotted turtle proposal. That bloc opposition was based on opposition to submission of a proposal for an endemic species (spotted turtle). Parties argued that it should be up to the United States to adopt domestic laws regulating their trade as they are native species. We disagree, since CITES is by definition a multilateral instrument to deal with the conservation of species subject to international trade. We continue to assert, and the representatives of U.S. States concurred at the COP, that the spotted turtle and timber rattlesnake qualify for CITES Appendix II, and any country has a right to recommend the inclusion of endemic species in the CITES Appendices. By precedent, a large number of endemic plant and animal species are already included in the CITES Appendices. The proposals to include three shark species (whale shark, great white shark, and basking shark) in Appendix II encountered bloc opposition from Parties opposed to any CITES involvement in marine species issues and were defeated. The gyrfalcon proposal (Falco rusticolus), involving another U.S. species, was opposed primarily by members of the European Union and other European countries, which claimed that such a split-listing would encourage illegal collection and trade in wild specimens originating in Europe.

The United States is currently considering, at least for the spotted turtle and timber rattlesnake, an Appendix III listing as an alternative conservation strategy for these native species subject to international trade. In considering this approach, we will fully consult State wildlife agencies. If we decide to pursue this course of action, we will solicit public comments.

Table 1.—Results of Actions by the Eleventh Meeting of the Conference to the Parties (COP11) to CITES
Proposal | Species/taxon | Proposed amendment | Proponent | Decision
PLANTS
Proposals submitted on behalf of the Plants Committee
11.1 | Ceropegia spp | Delete from Appendix II | Switzerland | Adopted.
11.2 | Frerea indica | Delete from Appendix II | Switzerland | Adopted.
11.3 | Byblis spp | Delete from Appendix II | Australia | Adopted.
11.4 | Disocactus macdougalli (McDougal's cactus) | Transfer from Appendix I to Appendix II | Switzerland | Adopted.
11.5 | Sclerocactus mariposensis (Mariposa cactus) | Transfer from Appendix I to Appendix II | Switzerland | Rejected.
11.6 | Cephalotus follicularis | Delete from Appendix II | Australia | Adopted.
11.7 | Dudleya stolonifera Dudleya traskiae (Laguna Beach and Santa Barbara Island Dudleya) | Transfer from Appendix I to Appendix II | Switzerland | Adopted as amended.¹
11.8 | Cyathea spp | (a) Change listings of Cyatheaceae spp. to Cyathea spp (including Alsophila, Nephelea, Sphaeropteris, Trichipteris) | Switzerland | Adopted.
| Cibotium barometz Dicksonia spp | (b) Change listing of Dicksoniaceae spp. to Dicksonia spp. (the Americas only) and Cibotium barometz |  |
11.9 | Shortia galacifolia (Oconee bells) | Delete from Appendix II | Switzerland | Withdrawn.
11.10 | Lewisia cotyledon (Siskiyou lewisia) Lewisia maguirei(Maguire's lewisia) Lewisia serrata (Saw-toothed lewisia) | Delete from Appendix II | Switzerland | Adopted as amended.²
11.11 | Darlingtonia californica (California pitcher plant, cobra-lily) | Delete from Appendix II | Switzerland | Adopted.
OTHERS
11.53 |  | Harmonize exemptions for medicinal products: combine annotation #2—P. hexandrum and R. serpentina with annotation #8—Taxus wallichiana | Switzerland | Adopted.
11.54 | Panax ginseng (Ginseng) | Inclusion in Appendix II of roots | Russia | Adopted as amended.³
11.55 | Araucaria araucana (Monkey-puzzle tree) | Transfer from Appendix II to Appendix I (Argentina population) | Argentina | Adopted.
11.56 | Cactaceae spp | Exempt up to 3 specimens of rainsticks (Cactaceae, Echinopsis, Eulychnia) per person | Chile | Withdrawn.*
11.57 | Kalmia cuneata (White wicky) | Delete from Appendix II | United States | Adopted
11.58 | Camptotheca acuminata (Happy tree) | Inclusion in Appendix II | China | Withdrawn.
11.59 | Cistanche deserticola (Desert cistanche) | Inclusion in Appendix II | China | Adopted as amended.⁴
11.60 | Harpagophytum procumbens Harpagophytum zeyheri (Devil's claw) | Inclusion in Appendix II | Germany | Withdrawn.
11.61 | Adonis vernalis (Spring adonis) | Inclusion in Appendix II (excluding potted live plants) | Germany | Adopted as amended.⁵
11.62 | Guaiacum sanctum (Lignum vitae) | Transfer from Appendix II to Appendix I | United States | Withdrawn.*
ANIMALS
Proposals with export quotas
11.12 | Crocodylus niloticus Nile crocodile | Maintain Tanzanian population in Appendix II; annual export quota of 1,600 | Tanzania | Adopted.
OTHER PROPOSALS
MAMMALS
Order Pholidota
11.13 | Manis crassicaudata Manis pentadactyla Manis javanica (Asian pangolins) | Transfer from Appendix II to Appendix I | India; Nepal; Sri Lanka; United States | Adopted as amended.⁶
Order Cetacea
11.14 | Tursiops truncatus ponticus (Black Sea bottlenose dolphin) | Transfer from Appendix II to Appendix I | Georgia; United States | Withdrawn.*
11.15 | Eschrichtius robustus (Gray whale) | Transfer the Eastern North Pacific stock from Appendix I to Appendix II | Japan | Rejected.
11.16 | Balaenoptera acutorostrata (Minke whale) | Transfer the Southern Hemisphere stock from Appendix I to Appendix II | Japan | Rejected as originally submitted and as amended.⁷
11.17 | Balaenoptera acutorostrata (Minke whale) | Transfer the Okhotsk Sea-W. Pacific stock from Appendix I to Appendix II | Japan | Rejected.
11.18 | Balaenoptera acutorostrata (Minke whale) | Transfer the NE Atlantic stock & the N. Atlantic Central stock from Appendix I to Appendix II | Norway | Rejected as originally submitted and as amended.⁸
Order Carnivora
11.19 | Parahyaena (Hyaena) brunnea (Brown hyaena) | Delete from Appendix II | Namibia; Switzerland | Adopted.
Order Proboscidea
11.20 | Loxodonta africana (African elephant) | Transfer South African population from Appendix I to Appendix II with annotations for trade (30 tons of ivory, hides and leather goods, trophies, live animals) | South Africa | Adopted as amended.⁹
11.21 | Loxodonta africana (African elephant) | Maintain the Botswana population in Appendix II, with annotations for trade (12 tons of ivory, hides and leather goods, trophies, live animals) | Botswana | Withdrawn.
11.22 | Loxodonta africana (African elephant) | Maintain the Namibia population in Appendix II, with annotations for trade (2 tons of ivory, hides and leather goods, trophies, live animals) | Namibia | Withdrawn.
11.23 | Loxodonta africana (African elephant) | Maintain the Zimbabwe population in Appendix II, with annotations for trade (10 tons of ivory, hides and leather goods, ivory carvings, live animals, trophies) | Zimbabwe | Withdrawn.
11.24 | Loxodonta africana (African elephant) | Transfer to Appendix I all populations currently listed in Appendix II | India; Kenya | Withdrawn.
11.25 | Loxodonta africana (African elephant) | Amend the annotation for Appendix II populations (regarding the destination of live animals) | Switzerland | Adopted.
Order Sirenia
11.26 | Dugong dugon (Dugong) | Transfer the Australian population from Appendix II to Appendix I | Australia | Adopted.
Order Artiodactyla
11.27 | Vicugna vicugna (Vicuña) | Transfer all populations in Bolivia that are in Appendix I to Appendix II | Bolivia | Withdrawn.
11.28 | Vicugna vicugna (Vicuña) | Delete the zero quota for trade in cloth from populations in Appendix II | Bolivia | Adopted.
11.29 | Moschus spp. (Musk deer) | Transfer to Appendix I all populations listed in Appendix II | India; Nepal; United States | Withdrawn.*
11.30 | Ovis vignei (Urial) | Include in Appendix I all subspecies not yet listed in the Appendices | Germany | Adopted as amended.¹⁰
BIRDS
Order Rheiformes
11.31 | Rhea pennata (= Pterocnemia pennata pennata) (Darwin's rhea) | Transfer Argentine populations from Appendix I to Appendix II | Argentina | Adopted.
Order Falconiformes
11.32 | Falco rusticolus (Gyrfalcon) | Transfer the North American population from Appendix I to Appendix II, with a zero quota for export of wild birds | United States | Rejected.
Order Psittaciformes
11.33 | Eunymphicus cornutus cornutus (Horned parakeet) | Transfer from Appendix II to Appendix I | France | Adopted.
11.34 | Eunymphicus cornutus uveaensis (Horned parakeet) | Transfer from Appendix II to Appendix I | France | Adopted.
Order Passeriformes
11.35 | Garrulax canorus (Hwamei) | Inclusion in Appendix II | China | Adopted.
REPTILES
Order Testudinata
11.36 | Cuora spp. (Asian box turtles) | Inclusion in Appendix II | Germany; United States | Adopted.
11.37 | Clemmys guttata (Spotted turtles) | Inclusion in Appendix II | United States | Rejected.
11.38 | Geochelone sulcata (African spurred turtle) | Transfer from Appendix II to Appendix I | France | Adopted as amended.¹¹
11.39 | Malacochersus tornieri (Pancake tortoise) | Transfer from Appendix II to Appendix I | Kenya; United States | Withdrawn.¹²
11.40 | Eretmochelys imbricata (Hawksbill sea turtle) | Transfer “Cuban Population” from Appendix I to Appendix II, with annotation for: (1) export of stocks (6,900 kg) to Japan; (2) export each year thereafter, to Japan or to other Parties (up to 500 turtles) | Cuba; Dominicia | Withdrawn.
11.41 | Eretmochelys imbricata (Hawksbill sea turtle) | Transfer “Cuban population” from Appendix I to Appendix II, with annotation for export in one shipment of registered stocks (6,900 kg) to Japan only | Cuba | Rejected as originally submitted and as amended.¹³
Order Sauria
11.43 | Varanus melinus (Quince monitor) | Transfer from Appendix II to Appendix I | Germany | Withdrawn.
Order Serpentes
11.44 | Crotalus horridus (Timber rattlesnake) | Inclusion in Appendix II | United States | Withdrawn.
AMPHIBIANS
Order Anura
11.45 | Bufo retiformis (Sonoran green toad) | Delete from Appendix II | United States | Adopted.
11.46 | Mantella spp. (Mantella frogs) | Inclusion in Appendix II (Mantella aurantiaca already in Appendix II) | Netherlands; United States | Adopted.
FISH
Order Orectolobiformes
11.47 | Rhincodon typus (Whale shark) | Inclusion in Appendix II | United States | Rejected.
Order Lamniformes
11.48 | Carcharodon carcharias (Great white shark) | Inclusion in Appendix I | Australia; United States | Rejected as originally submitted and amended.¹⁴
11.49 | Cetorhinus maximus (Basking shark) | Inclusion in Appendix II | United Kingdom | Rejected as amended.¹⁵
Order Coelacanthiformes
11.50 | Latimeria spp. (Coelacanths) | Inclusion in Appendix I (Latimeria chalumnae is already in Appendix I) | Germany; France | Adopted.
11.51 | Latimeria menadoensis | Inclusion in Appendix I | Indonesia; Germany | Withdrawn.
INVERTEBRATES
Order Araneae
11.52 | Poecilotheria spp. (Eastern Hemisphere tarantulas) | Inclusion in Appendix II | United States; Sri Lanka | Rejected.
¹ Dudleya stolonifera transferred to Appendix II. Dudleya traskiae to remain in Appendix I.
² Lewisia cotyledon deleted. Lewisia maguirei and Lewisia serrata retained in Appendix II.
³ Russian population only.
⁴ Amended annotation (now same as annotation #3).
⁵ Annotation for dried specimens (either whole or in part) only.
⁶ Species remain in Appendix II with a zero quota for trade from the wild.
⁷ Proposal was amended twice. First amended by Japan to allow only trade between Parties with a DNA identification. Then, Suriname proposed amendment for zero quota until COP12.
⁸ Limited trade to animals taken within Norwegian waters, and only for trade to countries with DNA-based identification systems.
⁹ Amendment: Zero quota on ivory.
¹⁰ All unlisted populations listed in Appendix II.
¹¹ Species remains in Appendix II with a zero quota for exports from the wild.
¹² Withdrawn after discussions between Kenya and Tanzania. Tanzania committed to not allow any exports from the wild.
¹³ Cuba proposed annotation that trade would not take place until the control systems in Japan were reviewed by the Standing Committee.
¹⁴ Amended to Appendix II.
¹⁵ Amended to include a 12-month delay in effective date for implementation.
* A Resolution or Decision of the Conference of the Parties was adopted dealing with this species.

Nomenclature Changes

At each meeting of the Conference of the Parties, the Parties also adopt certain nomenclature changes to the Appendices, based on adoption of new references or other scientific information. The adoption of the Nomenclature Report does not change the Appendix in which a species appears, but does change what name must be used for the species. As a result of the adoption by the Conference of the Parties of nomenclature changes, the names of the following taxa have been included in the CITES Appendices:

Table 2.—Taxonomic Changes to the CITES Appendices as Decided at COP11
Common name | Currently listed as | Previously listed as | Class, order, and family
Southern or Antarctic minke whale | Balaenoptera bonaerensis | Balaenoptera acutorostrata | Class Mammalia, Order Cetacea, Family Balaenopteridae
Cuatro Cienagas spiny soft-shell turtle | Apalone ater | Trionyx ater | Class Reptilia, Order Testudinata, Family Trionychidae
Indian soft-shell turtle | Aspideretes gangeticus | Trionyx gangeticus | Class Reptilia, Order Testudinata, Family Trionychidae.
Peacock soft-shell turtle | Aspideretes hurum | Trionyx hurum | Class Reptilia, Order Testudinata, Family Trionychidae.
Black soft-shell turtle | Aspideretes nigricans | Trionyx nigricans | Class Reptilia, Order Testudinata, Family Trionychidae.
Pythons | Family Pythonidae | Family Boidae | Class Reptilia, Order Serpentes.
Round Island boas | Family Bolyeriidae | Family Boidae | Class Reptilia, Order Serpentes.
Mexican dwarf boas | Family Loxocemidae | Family Boidae | Class Reptilia, Order Serpentes.
Small ground boas | Family Tropidophiidae | Family Boidae | Class Reptilia, Order Serpentes.
Chameleons | Calumma spp. and Furcifer spp | Chamaeleo spp. | Class Reptilia, Order Sauria, Family Chamaeleonidae.

COP11 Results

Results of the actions by the Conference of the Parties on the Appendices are given in tables 3-5 below. Details on the actual votes for proposals and related information are available from the Division of Scientific Authority (see ADDRESSES, above), our web site (http://international.fws.gov/cop11/cop11.html), and the CITES Secretariat's web site (www.wcmc.org.uk/CITES/eng/index.shtml).

Table 3.—Taxa Removed From the CITES Appendices
Species | Common name | Appendix
CLASS MAMMALIA | MAMMALS
Order Carnivora | Canids, Cats, Bears, Mustelids, etc
Parahyaena brunnea | Brown hyaena | II
CLASS AMPHIBIA | AMPHIBIANS
Order Anura | Frogs, Toads
Bufo retiformis | Sonoran green toad | II
PLANT KINGDOM | PLANTS
Family Asclepiadaceae | Milkweed family
Ceropegia spp | Ceropegia family | II
Frerea indica |  | II
Family Byblidaceae | Byblis family
Byblis spp | Byblis, Rainbow plants | II
Family Cephalotaceae | Australian pitcher-plant family
Cephalotus follicularis | West Australian pitcher-plant | II
Family Ericaceae | Heath family
Kalmia cuneata | White wicky | II
Family Portulacaceae | Portulaca family
Lewisia cotyledon | Siskiyou lewisia | II
Family Sarraceniaceae | New World pitcher plant family
Darlingtonia californica | Western pitcher plant, Cobra-lily | II

Table 4.—New Taxa or Populations Added to the CITES Appendices
Species | Common name | Appendix
CLASS MAMMALIA | MAMMALS
Order Artiodactyla | Even-toed ungulates
Ovis vignei [all previously unlisted subspecies] | Urial | II
CLASS AVES | BIRDS
Order Passeriformes | Perching birds, Songbirds
Garrulax canorus | Hwamei | II
CLASS REPTILIA | REPTILES
Order Testudinata | Turtles, Tortoises
Cuora spp. | Asian box turtles | II
CLASS AMPHIBIA | AMPHIBIANS
Order Anura | Frogs, Toads
Mantella spp. [all previously unlisted species] | Mantella frogs | II
CLASS OSTEICHTHYES | BONY FISHES
Order Coelacanthiformes | Coelacanth
Latimeria spp. [all previously unlisted species] | Coelacanth | I
PLANT KINGDOM | PLANTS
Family Araliaceae | Ginseng family
Panax ginseng [population of Russia] | Ginseng | II
Family Orobanchaceae
Cistanche deserticola | Desert cistanche | II
Family Ranunculaceae
Adonis vernalis | Spring adonis | II

Table 5.—Revisions in the CITES Appendices Resulting From Nomenclature Changes and Split-Listing of Specific Populations
Species | Common name | Appendix
CLASS MAMMALIA | MAMMALS
Order Cetacea | Whales, Porpoises, Dolphins
Balaenoptera bonaerensis ¹ | Southern minke whale | I
Order Proboscidea | Elephants
Loxodonta africana [population of South Africa ²] | African elephant | II
Order Sirenia | Dugongs, Manatees
Dugong dugon [population of Australia ³] | Dugong | I
CLASS AVES | BIRDS
Order Rheiformes | Rheas
Rhea pennata pennata [population of Argentina ²] | Darwin's rhea | II
Order Psittaciformes | Parrots, Parakeets, Macaws, Lories, Cockatoos, etc
Eunymphicus cornutus cornutus ³ | Horned parakeet | I
Eunymphicus cornutus uveaensis ³ | Horned parakeet | I
CLASS REPTILIA | REPTILES
Order Testudinata | Turtles, Tortoises
Apalone ater ⁴ | Cuatro Cienegas softshell turtle | I
Aspideretes gangeticus ⁴ | Indian soft-shell turtle | I
Aspideretes hurum ⁴ | Peacock soft-shell turtle | I
Aspideretes nigricans ⁴ | Black soft-shell turtle | I
Order Sauria | Lizards
Calumma spp.⁵ | Chamaeleons | II
Furcifer spp.⁵ | Chamaeleons | II
Order Serpentes | Snakes
Atropoides nummifer ⁶ | Jumping pit-viper | III (Honduras)
Bolyeriidae spp.⁷ | Round island boas | II
Daboia russellii ⁸ | Russell's viper | III (India)
Bothriechis schlegelii ⁶ | Eyelash palm pit-viper | III (Honduras)
Porthidium nasutus ⁶ | Rainforest hognosed pit-viper | III (Honduras)
Porthidium ophryomegas ⁶ | Slender hognosed pit-viper | III (Honduras)
Loxocemidae spp.⁷ | Mexican dwarf boas | II
Pythonidae spp.⁷ | Pythons | II
Tropidophiidaedae spp.⁷ | Small ground boas | II
PLANT KINGDOM | PLANTS
Family Araucariaceae | Monkey-puzzle tree family
Araucaria araucana [population of Argentina] ³ | Monkey-puzzle tree | I
Family Cactaceae | Cactus family
Disocactus (= Lobeira, = Nopalxochia) macdougallii ² | MacDougall's cactus | II
Family Crassulaceae | Stonecrop family
Dudleya stolonifera ² | Laguna Beach dudleya | II
Family Cyatheaceae | Tree-fern family
Cyathea spp.⁹ |  | II
Family Dicksoniaceae | Tree-fern family
Cibotium barometz ¹⁰ |  | II
Dicksonia spp. [the Americas only] ¹⁰ |  | II
¹ Previously considered a southern population of Balaenoptera acutorostrata.
² Downlisted from Appendix I to Appendix II.
³ Uplisted from Appendix II to Appendix I.
⁴ Previously in genus Trionyx.
⁵ Previously member of genus Chamaeleo.
⁶ Previously in genus Bothrops.
⁷ Previously listed as family Boidae.
⁸ Previously Vipera russellii.
⁹ Previously entire family Cyatheaceae listed.
¹⁰ Previously entire family Dicksoniaceae listed.

Consequences of Amendments of Appendices I and II

All proposals in table 1 that were approved by the Conference of the Parties entered into effect 90 days after the meeting (i.e., on July 19, 2000) under the terms of the CITES treaty. Article XV of CITES enables any Party to exempt itself from implementing CITES for any particular species, if the Party enters a reservation with respect to that species. A Party desiring to enter a reservation must do so during the 90-day period immediately following the close of the meeting at which the Parties voted to include the species in Appendix I or Appendix II. If the United States were to decide to enter any reservation, this action must have been transmitted to the Depositary Government (Switzerland) by July 19, 2000.

Reservations, if entered, do little to relieve importers in the United States from the need for foreign export permits, because the U.S. Lacey Act Amendments of 1981 (16 U.S.C. 3371 et seq.) make it a Federal offense to import into the United States any animals taken, possessed, transported, or sold in violation of foreign conservation laws. If a foreign country has enacted CITES as part of its positive law, and that country has not taken a reservation with regard to the animal or plant, or its parts or derivatives, the United States (even if it had taken a reservation on a species) would continue to require CITES export documents as a condition of import.

Any reservation by the United States would provide exporters in this country with little relief from the need for U.S. export documents. Importing countries that are party to CITES would generally require CITES-equivalent documentation from the United States, even if it enters a reservation, because the Parties have agreed to allow trade with non-Parties (including reserving Parties) only if they issue documents containing all the information required in CITES permits or certificates. In addition, if a reservation is taken on a species listed in Appendix I, the species should still be treated by the reserving Party as in Appendix II according to Resolution Conf. 4.25, thereby still requiring CITES documents for export.

The United States has never entered a reservation to a CITES listing, including the listings resulting from COP11. It is the policy of the United States that commercial trade in Appendix I species for which a country has entered a reservation undermines the effectiveness of CITES. All new listings in the Appendices adopted at COP11 (all previously unlisted populations of urial, hwamei, Asian box turtles, Mantella frogs, all coelacanths, ginseng, desert cistanche, and spring adonis) and all transfers from Appendix II to Appendix I (dugong, horned parakeets, and monkey-puzzle tree) were supported by the United States. Because we announced our position on all of these proposals well in advance of the meeting, we did not solicit public comments on whether we should enter any reservations following COP11.

Requirements of Other Laws

Changes in the CITES listing status of species as a consequence of actions taken at COP11 do not supersede import or export requirements pursuant to other wildlife conservation laws. For example, import or export of species listed as “threatened” or “endangered” under the U.S. Endangered Species Act (ESA) still must meet the provisions of that law and its implementing regulations in 50 CFR part 17, even if those species have been transferred to a less protective CITES Appendix or removed from the Appendices entirely.

Among the species downlisted to Appendix II at COP11, or with an amended annotation, but still subject to stricter ESA provisions are the African elephant, Darwin's rhea, and the vicuña. The brown hyena, removed from Appendix II, also remains listed under the ESA. The African elephant is also subject to provisions of the U.S. African Elephant Conservation Act (AECA). Because of the high public interest in this species and the complexity of the terms of the CITES downlistings, the effects of the downlistings on trade in African elephant products is treated separately in more detail below. Species of birds included in the CITES Appendices for the first time (hwamei) are now subject to the terms and provisions of the U.S. Wild Bird Conservation Act (WBCA) and its regulations in 50 CFR part 15. This inclusion will result in a prohibition on the importation of this species unless they qualify for exemptions established by regulation. Copies of these implementing regulations are available from the Service's Division of Management Authority and from our web site at http://international.fws.gov/.

Importation Into the United States of Sport-Hunted Trophies of African Elephants From the Republic of South Africa

The African elephant is listed as “threatened” under the ESA with a special rule at 50 CFR 17.40(e). Under the special rule, a personally taken sport-hunted trophy may be imported into the United States when it has (1) originated in a country for which the Service has received notice for that country's African elephant ivory quota for the year of export; (2) the permit requirements of the regulations for CITES permits (50 CFR 13 and 23) have been met; (3) the Service has determined that the take of the trophy for import would enhance the survival of the species; and (4) the ivory has been marked as outlined in the special rule. All these conditions continued to apply after the Appendix II listing for the elephant populations of South Africa became effective on July 19, 2000.

In making the required enhancement findings, the Service reviews the status of the population and the total management program for the elephant in each country to ensure the program is promoting the conservation of the species. The Service will make such findings on a periodic basis upon receipt of new information on the species' population or management. The enhancement findings for importation of sport-hunted elephant trophies from South Africa are on file in the Division of Management Authority and remain in effect until the Service finds, based on new information, that the conditions of the special rule are no longer met and has published a notice of any change in the Federal Register.

The practical effect of the downlisting of the South African population for sport hunters is that an import permit will no longer be required for noncommercial imports of African elephant sport-hunted trophies from South Africa, as well as Namibia, Botswana, and Zimbabwe only (elephant populations in the latter three countries were downlisted to Appendix II in 1997 during COP10). Only a CITES export permit from the country of origin or a reexport certificate from an intermediate country will be required. Populations of African elephants in all other countries, however, remain in Appendix I. Therefore, importation into the United States of sport-hunted elephant trophies from these other countries will continue to require prior issuance of both an import and export permit. As in the past, under the requirements of the AECA, no sport trophies of African elephants, or the raw ivory derived from sport-hunted trophies, whether from Appendix I or Appendix II populations, may be exported from the United States.

Importation of Live African Elephants, Ivory, and Other African Elephant Products

When the downlisting of the elephant populations of South Africa became effective on July 19, 2000, it became possible to import live elephants from that country into the United States “to appropriate and acceptable destinations” without an import permit and without need for an enhancement finding. Only an export permit from the country of origin, or a reexport certificate from an intermediate country, is now necessary. Commercial trade in hides and leather products will also be allowed. Hides or leather products from elephant populations other than those of South Africa and Zimbabwe are still considered to be specimens included in Appendix I and cannot be imported by any CITES Party for commercial purposes. Regardless of any provisions of the African elephant downlistings at COP10 and COP11 for export of elephant ivory or ivory products, import of worked ivory into the United States continues to be prohibited under the terms of AECA or under the provisions of the ESA 4(d) special rule, unless they meet any of the following exceptions: (1) Bona fide antiques more than 100 years old; (2) personal and household effects registered with U.S. Customs on export and now being reimported; or (3) pre-Convention items for noncommercial use acquired prior to the first listing of the elephants under CITES in 1977. With the exception of appropriately marked sport-hunted trophies, import of raw ivory is strictly prohibited.

Required Determinations

This rule was not subject to Office of Management and Budget review under Executive Order 12866. Because these amendments are simply notifications of actions taken by the CITES Parties, they are not “rules” as defined in 5 U.S.C. 551. Similarly, the Regulatory Flexibility Act (5 U.S.C. 601) does not apply to the CITES listing process. The proposed adjustments to the list in 50 CFR 23.23 are solely informational to provide the public with accurate data on the species covered by CITES. The listing changes adopted by the Parties took effect on July 19, 2000, under the terms of the CITES treaty.

This rule does not contain new or revised information collection for which Office of Management and Budget (OMB) approval is required under the Paperwork Reduction Act. Information collection associated with CITES permits is covered by an existing OMB approval, and is assigned clearance No. 1018-0093, Form 3-200-27, with an expiration date of February 28, 2001. Detailed information for the CITES documentation appears at 50 CFR 23.15(g). The Service may not conduct or sponsor, and a person is not required to respond to, a collection of information unless it displays a currently valid OMB control number.

The Department of the Interior has determined that amendments to the CITES Appendices, which result from actions of the Parties to the Convention, do not require the preparation of Environmental Assessments as defined under authority of the National Environmental Policy Act (42 U.S.C. 4321-4347). This rule is categorically excluded from further National Environmental Policy Act requirements, under Part 516 of the Departmental Manual, Chapter 2, Appendix 1.10.

This document is issued under authority of the Endangered Species Act of 1973 (16 U.S.C. 1531 et seq. and 87 Stat. 884, as amended). It was prepared by Dr. Javier Alvarez, Division of Scientific Authority.

List of Subjects in 50 CFR Part 23

Endangered and threatened species, Exports, Fish, Imports, Marine mammals, Plants, Reporting and recordkeeping requirements, Treaties.

Regulation Promulgation

For the reasons set forth in the preamble, the Service amends title 50, chapter I, subchapter B, part 23 of the Code of Federal Regulations as follows:

PART 23—ENDANGERED SPECIES CONVENTION

1. The authority citation for part 23 continues to read as follows:

Authority: Convention on International Trade in Endangered Species of Wild Fauna and Flora, 27 U.S.T. 1087; and Endangered Species Act of 1973, as amended, 16 U.S.C. 1531 et seq.

2. In § 23.23, amend the table in paragraph (f) as follows:

a. Remove the following entries:

In CLASS MAMMALIA (common name, MAMMALS):

Parahyaena brunnea (common name, brown hyaena; in Order Carnivora, common name, Carnivores: Cats, Bears, etc.);

D. dugon (Australian population) (common name, Dugong; in Order Sirenia, common name, Dugongs, Manatees);

O. vignei vignei (common name, Shapo; in Order Artiodactyla, common name, Even-toed ungulates).

In CLASS REPTILIA (common name, REPTILES):

B. nasutus (common name, Rainforest hognosed pit-viper; in Order Serpentes, common name, Snakes).

In CLASS AMPHIBIA (common name, AMPHIBIANS):

B. retiformis, (common name, Sonoran green toad; In Order Anura, common name Frogs, Toads).

In PLANT KINGDOM:

Araucaria araucana (all populations except that of Chile) (common name, Monkey-puzzle tree; in Family Araucariaceae, common name Monkey-puzzle tree family);

A. araucana (population of Chile) (common name, Monkey-puzzle tree; in Family Araucariaceae, common name Monkey-puzzle tree family);

Family Asclepiadaceae (common name, Milkweed family), including Ceropegia spp. (common name, Ceropegias) and Frerea indica;

Family Byblidaceae (common name, Byblis family), including Byblis spp. (common name, Byblis, Rainbow plants);

Disocactus (=Lobeira, =Nopalxochia) macdougallii (common name, MacDougall's cactus; in Family Cactaceae, common name, Cactus family);

Family Cephalotaceae (common name, Australian pitcher-plant family), including Cephalotus follicularis (common name, West Australian pitcher plant);

Family Ericaceae (common name, Heath family), including Kalmia cuneata (common name, White wicky);

Lewisia cotyledon (common name, Siskiyou lewisia; in Family Portulacaceae, common name, Portulaca family);

Darlingtonia californica (common name, Western pitcher plant, Cobra-lily; in Family Sarraceniaceae, common name, New World pitcher plant family).

b. Revise the following entries:

In CLASS MAMMALIA (common name, MAMMALS):

Manis spp. (common name, pangolins; in Order Pholidota, common name, Pangolins, Scaly Anteaters);

Balaenoptera acutorostrata (common name, Minke whale; in Order Cetacea, common name, Whales, Porpoises, Dolphins);

Loxodonta africana (common name, African elephant; in Order Proboscidea, common name, Elephants) (both entries);

Dugong dugon (except for Australian population) (common name, Dugong; in Order Sirenia, common name, Dugongs, Manatees);

Bos gaurus (common name, Seladang, Guar; in Order Artiodactyla, common name, Even-toed ungulates);

V. vicugna (Bolivia) (common name, Vicuña; in Order Artiodactyla, common name, Even-toed ungulates).

In CLASS AVES (common name, BIRDS):

Rhea pennata pennata (common name, Darwin's rhea; in Order Rheiformes, common name Rheas);

Eunymphicus cornutus (common name, horned parakeet; in Order Psittaciformes, common name Parrots, Parakeets, Macaws, Lories, Cockatoos, etc.).

In CLASS REPTILIA (common name, REPTILES):

Trionyx ater (common name, Cuatro Cienegas softshell turtle; in Order Testudinata, common name, Turtles, Tortoises);

Trionyx gangeticus (common name, Indian softshell turtle; in Order Testudinata, common name, Turtles, Tortoises);

Trionyx hurum (common name, Peacock softshell turtle; in Order Testudinata, common name, Turtles, Tortoises);

Trionyx nigricans (common name, Black softshell turtle; in Order Testudinata, common name, Turtles, Tortoises);

Boidae spp. (common name, Boa Constrictors and Pythons; in Order Serpentes, common name, Snakes);

Bothrops nummifer (common name, Jumping pit-viper; in Order Serpentes, common name, Snakes);

Bothrops ophryomegas (common name, Slender hognosed pit-viper; in Order Serpentes, common name, Snakes);

Bothrops schlegelii (common name, Eyelash palm pit-viper; in Order Serpentes, common name, Snakes);

Vipera russellii (common name, Russell's viper; in Order Serpentes, common name, Snakes).

In PLANT KINGDOM (common name, PLANTS):

Rauvolfia serpentina (common name, Snake-root devil-pepper; in Family Apocynaceae, common name, Dogbane family);

Podophyllum hexandrum (common name, Himalayan may-apple; in Family Berberidaceae, common name Barberry family);

Dudleya stolonifera (common name, Laguna Beach dudleya; in Family Crassulaceae, common name, Stonecrop family);

Family Cyatheaceae (common name, Tree-fern family);

Family Dicksoniaceae (common name, Tree-fern family);

Taxus wallichiana (common name, Himalayan yew; in Family Taxaceae, common name, Yew family).

c. Add new entries as set forth below.

Note: In the animal classes (Mammals, Birds, Reptiles, Amphibians, and Bony Fishes), the orders are listed in taxonomic sequence, and the species are listed alphabetically within each order; in the plant kingdom, the families are listed alphabetically, and the species are listed alphabetically within each family.

The revisions and additions read as follows:

§ 23.23 Species listed in Appendices I, II, and III.

* * * * *

(f) * * *

Species | Common name | Appendix | First listing date (month/day/year)
CLASS MAMMALIA: | MAMMALS:
* * * * * * *
Order Pholidota: | Pangolins, Scaly Anteaters:
Manis spp. (all species except those with an annual export quota) | Pangolins | II | 7/1/75
Manis crassicaudata [zero quota for wild specimens] | Indian pangolin | II | 7/1/75
Manis javanica [zero quota for wild specimens] | Malayan pangolin | II | 7/1/75
Manis pentadactyla [zero quota for wild specimens] | Chinese pangolin | II | 7/1/75
* * * * * * *
Order Cetacea: | Whales, Porpoises, Dolphins:
* * * * * * *
Balaenoptera acutorostrata (all populations except that of West Greenland) | Northern minke whale | I | 6/28/79
Balaenoptera bonaerensis | Southern minke whale | I | 6/28/79
* * * * * * *
Order Proboscidea: | Elephants:
* * * * * * *
Loxodonta africana [except populations of Botswana, Namibia, South Africa, and Zimbabwe] | African elephant | I | 2/4/77
L. africana [only the populations of Botswana, Namibia, South Africa and Zimbabwe, to allow: (1) Export of hunting trophies for noncommercial purposes; (2) export of live animals to appropriate and acceptable destinations (Namibia: for noncommercial purposes only; South Africa: for reintroduction purposes); (3) export of hides and leather goods (South Africa and Zimbabwe); (4) export of ivory carvings for noncommercial purposes (Zimbabwe only); (5) export of ivory tusks from Kruger National Park (South Africa; zero quota)] | African elephant | II | 2/4/77
Order Sirenia: | Dugongs, Manatees:
Dugong dugon | Dugong | I | 7/1/75
* * * * * * *
Order Artiodactyla: | Even-toed ungulates:
* * * * * * *
B. gaurus (excluding domestic forms) | Seladang, Gaur | I | 7/1/75
* * * * * * *
Ovis vignei (except subspecies listed below) | Urial | II | 7/19/00
O. vignei vignei | Ladakh urial | I | 7/1/75
* * * * * * *
Vicugna vicugna (except populations listed below, under the conditions specified) | Vicuña | I | 7/1/75
* * * * * * *
V. vicugna [Bolivia: populations of the Conservation Units of Mauri-Desaguadero, Ulla Ulla and Lipez-Chichas (export limited to wool sheared from live animals and to cloth and items made thereof, including luxury handicrafts and knitted articles; the reverse side of cloth and cloth products must bear the logo adopted by countries signatory to the Convenio para la Conservación y Manejo de la Vicuña and the words, “VICUÑA-BOLIVIA”; all specimens not meeting any of the above conditions shall be deemed to be specimens of species included in Appendix I and the trade in them shall be regulated accordingly)] | Vicuña | II | 7/1/75
* * * * * * *
CLASS AVES: | BIRDS:
* * * * * * *
Order Rheiformes: | Rheas:
* * * * * * *
R. pennata pennata (Argentina only) | Darwin's rhea | II | 7/1/75
R. pennata pennata (except population of Argentina) | Darwin's rhea | I | 7/1/75
* * * * * * *
Order Psittaciformes: | Parrots, Parakeets, Macaws, Lories, Cockatoos, etc.:
* * * * * * *
Eunymphicus cornutus (except subspecies listed below) | Horned parakeet | II | 7/1/75
Eunymphicus cornutus cornutus | Horned parakeet | I | 7/1/75
Eunymphicus cornutus uveaensis | Horned parakeet | I | 7/1/75
* * * * * * *
Order Passeriformes: | Perching birds, Songbirds:
* * * * * * *
Garrulax canorus | Hwamei | II | 7/19/00
* * * * * * *
CLASS REPTILIA: | REPTILES:
Order Testudinata: | Turtles, Tortoises:
Apalone ater | Cuatro Cienegas softshell turtle | I | 7/1/75
Aspideretes gangeticus | Indian soft-shell turtle | I | 7/1/75
Aspideretes hurum | Peacock soft-shell turtle | I | 7/1/75
Aspideretes nigricans | Black soft-shell turtle | I | 7/1/75
* * * * * * *
Cuora spp. | Asian box turtles | II | 7/19/00
* * * * * * *
Geochelone sulcata [zero quota for wild specimens] | African spurred tortoise | II | 7/1/75
* * * * * * *
Trionyx ater (see Apalone ater)
T. gangeticus (see Aspideretes gangeticus)
T. hurum (see Aspideretes hurum)
T. nigricans (see Aspideretes nigricans)
* * * * * * *
Order Sauria: | Lizards:
* * * * * * *
Calumma spp. | Chamaeleons | II | 2/4/77
* * * * * * *
Furcifer spp. | Chamaeleons | II | 2/4/77
* * * * * * *
Order Serpentes: | Snakes:
* * * * * * *
Atropoides nummifer | Jumping pit-viper | III (Honduras) | 4/13/87
* * * * * * *
Boidae spp. (all species except those in App. I or with earlier date in App. II) | Boas | II | 2/4/77
* * * * * * *
Bolyeriidae spp. (all species except those in App. I or with earlier date in App. II) | Round island boas | II | 2/4/77
Bothriechis schlegelii | Eyelash palm pit-viper | III (Honduras) | 4/13/87
* * * * * * *
Bothrops nasutum (see Porthidium nasutum)
B. nummifer (see Atropoides nummifer)
B. ophryomegas (see Porthidium ophryomegas)
B. schlegelii (see Bothriechis schlegelii)
* * * * * * *
Daboia russellii | Russell's viper | III (India) | 2/12/84
* * * * * * *
Loxocemidae spp. (all species except those in App. I or with earlier date in App. II) | Mexican dwarf boas | II | 2/4/77
* * * * * * *
Porthidium nasutum | Rainforest hognosed pit-viper | III (Honduras) | 4/13/87
Porthidium ophryomegas | Slender hognosed pit-viper | III (Honduras) | 4/13/87
* * * * * * *
Pythonidae spp. (all species except those in App. I or with earlier date in App. II) | Pythons | II | 2/4/77
* * * * * * *
Tropidophiidae spp. (all species except those in App. I or with earlier date in App. II) | Small ground boas | II | 2/4/77
* * * * * * *
Vipera russellii (see Daboia russellii)
* * * * * * *
CLASS AMPHIBIA: | AMPHIBIANS:
* * * * * * *
Order Anura: | Frogs, Toads:
* * * * * * *
Mantella spp. (except species below) | Mantella frogs | II | 7/19/00
* * * * * * *
CLASS OSTEICHTHYES: | BONY FISHES:
* * * * * * *
Order Coelacanthiformes: | Coelacanth:
Latimeria spp. (except species below) | Coelacanth | I | 7/19/00
Latimeria chalumnae | Gombessa coelacanth | I | 7/1/75
* * * * * * *
PLANT KINGDOM (note general exclusions and exceptions in introductory text): | PLANTS:
* * * * * * *
Family Apocynaceae: | Dogbane family:
* * * * * * *
Rauvolfia serpentina (except chemical derivatives and finished pharmaceutical products) | Snake-root devil-pepper | II | 1/18/90
Family Araliaceae: | Ginseng family:
Panax ginseng [population of Russia] (whole and sliced roots and parts of roots, excluding manufactured parts or derivatives such as powders, pills, extracts, tonics, teas, and confectionery) | Ginseng | II | 7/19/00
* * * * * * *
Family Araucariaceae: | Monkey-puzzle tree family:
Araucaria araucana | Monkey-puzzle tree | I | 7/1/75
* * * * * * *
Family Berberidaceae: | Barberry family:
Podophyllum hexandrum (=P. emodi, =Sinopodophyllum hexandrum) (except chemical derivatives and finished pharmaceutical products) | Himalayan may-apple | II | 1/18/90
* * * * * * *
Family Crassulaceae: | Stonecrop family:
Dudleya stolonifera | Laguna Beach dudleya | II | 7/29/83
* * * * * * *
Family Cyatheaceae: | Tree-fern family:
Alsophila spp. (see Cyathea spp.)
Cyathea spp. (includes Alsophila spp., Nephelea spp., Sphaeropteris spp., Trichipteris spp.) |  | II | 2/4/77
Cyathea (=Hemitelia) capensis |  | II | 7/1/75
C. dredgei |  | II | 7/1/75
C. mexicana |  | II | 7/1/75
C. (=Alsophila) salvini |  | II | 7/1/75
Nephelea spp. (see Cyathea spp.)
Sphaeropteris spp. (see Cyathea spp.)
Trichipteris spp. (see Cyathea spp.)
* * * * * * *
Family Dicksoniaceae: | Tree-fern family:
Cibotium barometz |  | II | 2/4/77
Dicksonia spp. (the Americas only) |  | II | 2/4/77
* * * * * * *
Family Orobanchaceae: | Broomrape family:
Cistanche deserticola | Desert cistanche | II | 7/19/00
* * * * * * *
Family Ranunculaceae: | Buttercup family:
Adonis vernalis | Spring adonis | II | 7/19/00
* * * * * * *
Family Taxaceae: | Yew family:
Taxus wallichiana (=T. baccata subs. wallichiana) (except chemical derivatives and finished pharmaceutical products) | Himalayan yew | II | 2/16/95
* * * * * * *

Dated: January 18, 2001.
Kenneth L. Smith,
Assistant Secretary for Fish and Wildlife and Parks.

[FR Doc. 01-10144 Filed 5-17-01; 8:45 am]

BILLING CODE 4310-55-P